DEPARTMENT OF THE INTERIOR

Bureau of Reclamation

Central Valley Project Improvement Act, Regional Criteria For Evaluating the Water Management Plan for the Sacramento River Contractors

AGENCY: Bureau of Reclamation, Interior.

ACTION: Notice.

SUMMARY: The “Regional Criteria for Evaluating Water Management Plans for the Sacramento River Contractors” (Regional Criteria) are available for public comment. The Regional Criteria were developed by the U.S. Bureau of Reclamation (Reclamation) under the authority of the Central Valley Project Improvement Act of 1992 (CVPIA) and in accordance with the Reclamation Reform Act of 1982 (RRA).

The development and implementation of these Regional Criteria for the Sacramento Valley Contractors is an alternative “experimental” pilot program to the current “Standard Criteria for Evaluating Water Management Plans” (Standard Criteria). The Sacramento River Contractors that participate in the development of a Regional Water Management Plan (Plan) will have 5 years in which to successfully implement their Plan under these approved Regional Criteria. If the Contracting Officer deems this pilot program to be unsuccessful, these Regional Criteria will be discontinued. All subsequent Plans would then be evaluated under the then current Standard Criteria.

DATES: All public comments must be received by March 1, 2004.

ADDRESSES: Please mail comments to Leslie Barbre, Bureau of Reclamation, 2800 Cottage Way, Sacramento, California 95825, 916-978-5232 (TDD 978-5608), or e-mail at lbarbre@mp.usbr.gov.

FOR FURTHER INFORMATION CONTACT: To be placed on a mailing list for any subsequent information, please contact Leslie Barbre at the e-mail address or telephone number above.

SUPPLEMENTARY INFORMATION: These Regional Criteria were developed by Reclamation under the authority of the CVPIA and in accordance with the RRA. These Regional Criteria state that all Participating Contractors that take delivery of Municipal and Industrial (Urban) water in excess of 2,000 acre-feet and/or Agricultural water to serve over 2,000 irrigable acres will be evaluated based on the required information detailed in the sections listed below.

1. Description of the Region Covered by the Plan

2. Inventory of Water Resources

3. Identify Regional Water Measurement Program

4. Analyze Water Management Quantifiable Objectives (QOs)

5. Identify Actions to Implement and Achieve Proposed QOs

6. Establish Monitoring Program

7. Budget and Allocation of Regional Costs

8. Regional Plan Coordination

9. Five-Year Plan Revision Procedure

Reclamation will evaluate the Plan based on these Regional Criteria.

Public comments for the Regional Criteria for the Sacramento River Contractors are now being accepted.

Dated: December 1, 2003.
Donna E. Tegelman,
Regional Resources Manager, Mid-Pacific Region.

[FR Doc. 04-1902 Filed 1-28-04; 8:45 am]

BILLING CODE 4310-MN-P